CONSUMER PRODUCT SAFETY COMMISSION

Sunshine Act Meetings, Cancellation

Federal Register CITATION OF PREVIOUS ANNOUNCEMENT: Vol. 77, No. 12, Thursday, January 17, 2013, page 3883.

ANNOUNCED TIME AND DATE OF MEETING: Thursday, January 23, 2013, 10 a.m.-11 a.m.

MATTER TO BE CONSIDERED: Decisional Matter: Section 1110 Certificates of Compliance—Notice of Proposed Rulemaking.

MEETING CANCELED: For a recorded message containing the latest agenda information, call (301) 504-7948.

CONTACT PERSON FOR ADDITIONAL INFORMATION: Todd A. Stevenson, Office of the Secretary, Consumer Product Safety Commission, 4330 East West Highway, Bethesda, MD 20814 (301) 504-7923.

Dated: January 23, 2013.
Todd A. Stevenson,
Secretary.

[FR Doc. 2013-01658 Filed 1-23-13; 4:15 pm]

BILLING CODE 6355-01-P